DEPARTMENT OF HEALTH AND HUMAN SERVICES

Substance Abuse and Mental Health Services Administration

Notice of Meeting

Pursuant to Public Law 92-463, notice is hereby given of the meeting on of the Substance Abuse and Mental Health Services Administration's (SAMHSA) Center for Mental Health Services (CMHS), National Advisory Council meeting on April 10, 2013.

The meeting is open to the public and will be held at the SAMHSA building, 1 Choke Cherry Road, Rockville, MD 20857 in the Sugarloaf Conference Room. Interested persons may present data, information, or views, orally or in writing, on issues pending before the committee. Written submissions should be forwarded to the contact person on or before one week prior to the meeting. Oral presentations from the public will be scheduled at the conclusion of the meeting. Individuals interested in making oral presentations are encouraged to notify the contact on or before one week prior to the meeting. Five minutes will be allotted for each presentation.

Substantive program information may be obtained after the meeting by accessing the SAMHSA Committee Web site, http://nac.samhsa.gov/, or by contacting Crystal C. Saunders, Acting Designated Federal Official.

Committee Name: Substance Abuse and Mental Health Services Administration CMHS, National Advisory Council.

Date/Time/Type: April 10, 2013, 9:00 a.m.-5:30 p.m. EST: (OPEN).

Place: SAMHSA Building, Sugarloaf Conference Room.

Contact: Crystal C. Saunders, Acting, Designated Federal Official, SAMHSA, CMHS, National Advisory Council, 1 Choke Cherry Road, Rockville, Maryland 20857, Telephone: 240-276-1117, Fax: 240-276-1395 and Email: crystal.saunders@samhsa.hhs.gov.

Summer King,
Statistician, Substance Abuse and Mental Health, Services Administration.

[FR Doc. 2013-04774 Filed 2-28-13; 8:45 am]

BILLING CODE 4162-20-P